DEPARTMENT OF COMMERCE

Economic Development Administration

Notice of Petitions by Firms for Determination of Eligibility To Apply for Trade Adjustment Assistance

AGENCY: Economic Development Administration, Department of Commerce.

ACTION: Notice and opportunity for public comment.

Pursuant to Section 251 of the Trade Act of 1974 (19 U.S.C. 2341 et seq.), the Economic Development Administration (EDA) has received petitions for certification of eligibility to apply for Trade Adjustment Assistance from the firms listed below. EDA has initiated separate investigations to determine whether increased imports into the United States of articles like or directly competitive with those produced by each firm contributed importantly to the total or partial separation of the firm's workers, or threat thereof, and to a decrease in sales or production of each petitioning firm.

List of Petitions Received by EDA for Certification of Eligibility To Apply for Trade Adjustment
[4/28/2010 through 6/7/2010]
Firm | Address | Date accepted products for filing | Products
Kansas City Tent & Awning Company | 1819 Holmes, Kansas City, MO 64108 | 4/28/2010 | The company designs and manufactures custom tents and awnings.
A. Rifkin Company | 1400 Sans Souci Parkway, Wilkes-Barre, PA 18703 | 5/14/2010 | A. Rifkin manufactures security and multi-use reusable fabric lock bags systems and related products.
Applied Separations, Inc. | 930 Hamilton Street, Allentown, PA 18101 | 5/14/2010 | Applied Separations manufactures analytical laboratory instruments for DNA testing and systems to produce supercritical fluids.
Fitzpatrick Manufacturing Company | 33637 Sterling Ponds, Sterling, MI 48312 | 5/14/2010 | Machining and assembly of industrial motion control products, automotive powertrain and driveline components, aftermarket automotive tooling, mold and die components.
ZMC Industries, LLC dba Vomax | 76 Industrial Drive, Northhampton, MA 01060 | 5/14/2010 | Vomax manufactures custom performance apparel. They use a method of dye sublimation.
Electro Chemical Engineering & Manufacturing | 750 Broad Street, Emmaus, PA 18049 | 5/17/2010 | Electro Chemical manufactures steel tanks that are lined with various materials for the containment of corrosive materials.
Kepner-Scott Shoe Company | 209 North Liberty Street, Orwigsburg, PA 17961 | 5/17/2010 | Kepner Scott's line of footwear consists of children's orthopedic, casual and dress footware.
Mount Joy Wire Corporation | 1000 East Main Street, Mount Joy, PA 17552 | 5/17/2010 | Mount Joy is a manufacturer of carbon steel wire.
TLX Technologies, LLC | Saratoga Drive, Waukesha, WI 53186 | 5/17/2010 | The firm designs and manufactures latching, u-frame, actuators, high speed, tubular and valve solenoids.
Valley Fastener Group, LLC | 1490 Mitchell Road, PO Aurora, IL 60507 | 5/17/2010 | Valley manufactures and distributes carbon steel, stainless steel, brass, aluminum, and copper fastening products.
Eastern Surfaces, Inc. | 601 South 10th Street, Allentown, PA 18103 | 5/18/2010 | Eastern Surfaces is a manufacturer of natural and man-made stone and solid surface products. We also template, fabricate and install counters.
Cooley Group Holdings Inc. | 50 Esten Avenue, Pawtucket, RI 02860 | 5/24/2010 | Cooley Group Holdings Inc. manufactures made to order rubber roofing membrane in roll form and other made to order engineered composites.
Corcoran Printing, Inc. | 641 N. Pennsylvania, Wilkes Barre, PA 18705 | 5/24/2010 | Corcoran Printing's products include high quality multi-color commercial printing such as brochures, posters, catalogs, and postcards.
Chatsworth Data Corporation | 20710 Lassen Street, Chatsworth, CA 91311 | 5/25/2010 | Chatsworth Data produces Impact Indicators and Recorders, Optical Mark Recorders and Scanners and Cable Circuit Analysis Systems.
Pairpoint Glass Company, LLC | 851 Sandwich Road, P.O. Sagamore, MA 02561 | 5/26/2010 | Manufactures pressed and blown glass.
Woerner Industries, Inc. dba Lassco Wizer | 485 Hague Street, Rochester, NY 14606 | 5/26/2010 | Woerner manufactures primarily equipment used in the finishing area of the printing industry and church furniture.
Century Mold Company, Inc. | 25 Vantage Point Drive, Rochester, NY 14624 | 5/27/2010 | CM produces injection molded plastic parts primarily for “under the hood” plastic parts for automotive markets.
Expert Die, Inc. | 257 Expert Way, Dalton, GA 30721 | 5/27/2010 | The firm produces saw blades, CNC tools, knives and circular blades.
Dura-Bilt Products, Inc. dba Lassco Wizer | 17066 Berwick Turnpike, Gillete, PA 16925 | 6/1/2010 | National manufacturer of sunrooms, screenrooms, patio awnings and porch roofs.
The Carpentree, Inc. | 2724 N. Sheridan, Tulsa, OK 74115 | 6/1/2010 | Frames for art and photography pictures.
Ames Industries, Inc. | 2999 Elizabethtown Road, Hershey, PA 17033 | 6/3/2010 | Ames builds intricate, close tolerance molds for a multitude of custom products.
Frantz Manufacturing | 603 First Avenue, Sterling, IL 61081 | 6/3/2010 | The company is a manufacturer of ball bearings and steel balls for the Company industrial machinery and automotive industries.
Paneltech Products, Inc. | 2999 John Stevens Way, Hoquiam, WA 98550 | 6/3/2010 | Manufacturer of composite construction panels, interior and exterior, glass fiber protection fabrics.
Puritan Products, Inc. | Lehigh Valley Industrial, Bethlehem, PA 18107 | 6/4/2010 | Firm sells specialty chemicals and custom chemical formulations.
Charles Alan Incorporated | 2901 Stanley Avenue, Fort Worth, TX 76110 | 6/7/2010 | Home and office furniture.
Custom Wood Gifts, LLC | 5465 Woodbine Avenue, North, SC 29406 | 6/7/2010 | The firm produces laser cut replicas of historic sites and buildings; primary manufacturing material is wood.
Everbrite Electronics, Inc. | 720 W. Cherry Street, Chanute, KS 66720 | 6/7/2010 | Electronic switching power supplies for neon signs and LED based products and related components.
H. H. Fessler Knitting Co, Inc. d/b/a FesslerUSA | 216 West Independence, Orwigsburg, PA 17961 | 6/7/2010 | FesslerUSA manufactures custom women and children's apparel and provides design and production.

Any party having a substantial interest in these proceedings may request a public hearing on the matter. A written request for a hearing must be submitted to the Trade Adjustment Assistance for Firms Division, Room 7106, Economic Development Administration, U.S. Department of Commerce, Washington, DC 20230, no later than ten (10) calendar days following publication of this notice.

Please follow the procedures set forth in Section 315.9 of EDA's final rule (71 FR 56704) for procedures for requesting a public hearing. The Catalog of Federal Domestic Assistance official program number and title of the program under which these petitions are submitted is 11.313, Trade Adjustment Assistance.

Dated: June 11, 2010.
Miriam J. Kearse,
Eligibility Certifier.

[FR Doc. 2010-14612 Filed 6-16-10; 8:45 am]

BILLING CODE 3510-24-P